DEPARTMENT OF HEALTH AND HUMAN SERVICES

Administration for Children and Families

Proposed Information Collection Activity; Case Studies of Child Care and Development Fund Lead Agencies' Consumer Education Strategies (New Collection)

AGENCY: Office of Planning, Research, and Evaluation, Administration for Children and Families, U.S. Department of Health and Human Services.

ACTION: Request for public comments.

SUMMARY: The Administration for Children and Families (ACF) within the U.S. Department of Health and Human Services (HHS) is proposing to collect qualitative data to examine innovative and promising consumer education strategies that Child Care and Development Fund (CCDF) Lead Agencies are using to help families search for and select child care and early education (CCEE). This information collection aims to present an internally valid description of the experiences of up to six, purposively selected case study sites, not to promote statistical generalization to different sites or service populations.

DATES: Comments due within 60 days of publication. In compliance with the requirements of the Paperwork Reduction Act (PRA) of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: The Consumer Education and Parental Choice in Early Care and Education project is proposing to conduct qualitative case studies to examine consumer education strategies in up to six sites. Sites will be selected based on a scan of innovative or promising strategies being used to help parents looking for and selecting CCEE.

In each site, we will conduct interviews with CCDF administrators and agency staff, consumer education services staff, and other key informants to collect information on select consumer education strategies and implementation successes and challenges. We will conduct focus groups with parents of young children to gather information about their experiences looking for CCEE. The study will collect information about (a) the selected consumer education strategies; (b) implementation successes and challenges; and (c) parents' experiences looking for CCEE, including the resources they used and their awareness of and perspectives on state/local consumer education resources.

Respondents: State, Territory, and Tribal CCDF program administrators and agency staff, consumer education services staff, key informants who interact with parents and provide a state/local perspective, and parents/guardians of children under age 6.

Annual Burden Estimates
Instrument | Number of respondents (total over request period) | Number of responses per respondent (total over request period) | Average burden per response (in hours) | Total/annual burden (in hours)
Interview Guide for State, Tribal, and Territory CCDF Administrators | 12 | 1 | 1 | 12
Interview Guide for Consumer Education Services Staff | 30 | 1 | 1 | 30
Key Informant Interview Guide | 18 | 1 | .75 | 14
Parent Focus Group Facilitator's Guide | 120 | 1 | 1.5 | 180
Focus Group Brief Questionnaire | 120 | 1 | .1 | 12

Estimated Total Annual Burden Hours: 248.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Child Care and Development Block Grant (CCDBG) Act of 1990, as amended (42 U.S.C. 9857 et seq.)

Mary B. Jones,
ACF/OPRE Certifying Officer.

[FR Doc. 2022-22759 Filed 10-19-22; 8:45 am]

BILLING CODE 4184-23-P